FEDERAL COMMUNICATIONS COMMISSION

Federal Advisory Committee Act

AGENCY: Federal Communications Commission.

ACTION: Notice.

SUMMARY: In accordance with the Federal Advisory Committee Act (Pub. L. 92-463), the Federal Communications Commission (FCC) announces that the charter for the Advisory Committee for the 2015 World Radiocommunication Conference (WRC-15 Advisory Committee) has been renewed by the General Services Administration (GSA) for a two-year period. The WRC-15 Advisory Committee is a federal advisory committee under the Federal Advisory Committee Act.

DATES: Renewed through April 25, 2016.

ADDRESSES: Federal Communications Commission, 445 12th Street SW., Room TW-C305, Washington, DC 20554.

FOR FURTHER INFORMATION CONTACT: Alexander Roytblat, Designated Federal Official, WRC-15 Advisory Committee, FCC International Bureau, Strategic Analysis and Negotiations Division, at (202) 418-7501. Email: Alexander.Roytblat@fcc.gov.

SUPPLEMENTARY INFORMATION: In accordance with the Federal Advisory Committee Act, Public Law 92-463, as amended, this notice advises interested persons that the GSA has renewed the charter of the WRC-15 Advisory Committee through April 25, 2016. Its scope of activities is to address issues contained in the agenda for the 2015 World Radiocommunication Conference (WRC-15). The WRC-15 Advisory Committee will continue to provide to the FCC advice, data, and technical analyses, and will formulate recommendations relating to the preparation of U.S. proposals and positions for WRC-15.

Federal Communications Commission.
Mindel De La Torre,
Chief, International Bureau.

[FR Doc. 2014-10368 Filed 5-6-14; 8:45 am]

BILLING CODE 6712-01-P